DEPARTMENT OF HEALTH AND HUMAN SERVICES

2023 Publication of Senior Executive Service Candidates for Health and Human Services Performance Review Board

AGENCY: Department of Health and Human Services.

ACTION: Notice.

SUMMARY: The Department of Health and Human Services (HHS) is publishing the names of the Performance Review Board Members (PRB) who are reviewing performance of Senior Executive Service members, title 42 executives, Senior Level, and Scientific Professional employees for fiscal year 2023

FOR FURTHER INFORMATION CONTACT: Monique Pollard, Program Manager, Executive Performance Management, Department of Health and Human Services, 330 C Street SW, Washington, DC 20201, (202) 729-8797.

SUPPLEMENTARY INFORMATION: Title 5 U.S.C. 4314(c)(4) of the Civil Service Reform Act of 1978, Public Law 95-454, requires that the appointment of Performance Review Board Members be published in the Federal Register. The following individuals are being appointed to a roster, from which the PRB members will be appointed to serve on the HHS PRB from CY 2023 through CY 2025. The PRB provides performance rating and rating-based compensation recommendations to the HHS Secretary based on the individual performance appraisals for Senior Executive Service, Senior Level/Senior Technical, and Title 42 executive equivalent employees and the organizational assessments of the Operating and Staff Divisions they serve.

Last name | First name
ADAMS | STEVEN.
AKPA | STEPHANIE.
ALTMAN | BRIAN.
ALVAREZ | KATHRYN.
AMES | KAREN.
ANOKA | JEFFERY.
ANTHONY | ELISE.
ARNOLD | SHARON.
BACKFIELD | KATLIN.
BALLANCE | CHRISTINA.
BARKOFF | ALISON.
BARLOW | AMANDA.
BARRY | DANIEL.
BELL | WILLIAM.
BENFORD | JOFFREY.
BHARGAVA | DEEPAK.
BLACKWELL | EDITH.
BLUM | JONATHAN.
BOATENG | SARAH.
BODDEN | CHERYL.
BOTTICELLA | ANGELA.
BRATCHER-BOWMAN | NIKKI.
BRAXTON | MAKOTO.
BRISBON | HENRIETTA.
BROWN | MARK.
BRUCE | DUANE.
BURNS | SAMIRA.
BURNSZYNSKI | JENNIFER.
BUSH | LAINA.
CABEZAS | MIRIAM.
CALSYN | MAURA.
CAMPBELL | CHERYL.
CANNISTRA | JENNIFER.
CARNIVAL | DANIELLE.
CHA | STEPHEN.
CHAMBERS | GEORGE.
CHAMP-GELBMANN | JANE.
CHESLEY | FRANCIS.
CHESSEN | SONIA.
CLIFFORD | CHAD.
COCHRAN | NORRIS.
COMFORT | KAREN.
CONLEY | MARY.
COOPER | RENEE.
CRONIN | KELLY.
CURTIS | MICHAEL.
DALY | MADELINE.
DAVIS | MICHELLE.
DEL VECCHIO | PAOLO.
DELEW | NANCY.
DESPRES | SARAH.
DISRAELLY | DEENA.
DOOLEY | SEAN.
DORN | ALAN.
DRIGGS | SCOTT.
DUNN MARCOS | ROBIN.
DUPRE | BRIAN.
ESPINOSA | KIMBERLY.
FIGUEROA | MARVIN.
FINK | DOROTHY.
FITZGERALD | DENIS.
FLAGG | ANN.
FORBER-PRATT | ANJALI.
FRIEDMAN | RUTH.
FROHBOESE | ROBINSUE.
FROSS | CAITLIN.
FRYE | EUGENE.
GALLOWAY | SUMMER.
GARRITY | SHEILA.
GARVIN | KHARI.
GOLDHABER | BEN.
GOLDSTEIN | ANDREA.
GOTTLICH | VICKI.
GOULDING | MICHAEL.
GRAF | ALEXANDER.
GRAMLING | ELIZABETH.
GRAY | TANGULER.
GREENBERG | MARK.
GREENE | JONATHAN.
GRIFFIN | ELIZABETH.
GROSSMAN | JORDAN.
GUERRERO | BERTHA.
HAFFAJEE | REBECCA.
HALL | RANDALL.
HALL | WAYNE.
HAMAMOTO | PAMELA.
HAMM | KATHLEEN.
HANDERHAN | LAWRENCE.
HARPER | VICTOR.
HAYES WALLER | BERNITA.
HENDERSON | GRAEME.
HERNANDEZ | PATRICK.
HILD | STEVEN.
HILL | KRISTI.
HOFFMAN | JANICE.
HOLLAND | HOWARD.
HOLZERLAND | WILLIAM.
HORN | DAVID.
HOWARD | LANIKQUE.
HUTCHINSON | KIM.
JACKSON | SHANNON.
JACOBS | JILL.
JEE | LAUREN.
JOHN | KURT.
JOHNSON | DAVID.
JOHNSON | DEBRA.
JOHNSON | JENNIFER.
JONES | CHRISTINE.
JONES | KAMARA.
JONES | WANDA.
JOYNER | ARLENE.
KACHINSKI | KEVIN.
KADISH | ANDREA.
KENNEDY | GAVIN.
KEVENEY | SEAN.
KIM | HANNAH.
KIM | SUSAN.
KOSSALLY | CONSTANCE.
KRAM | ANTHONY.
KRAMER | DEBORAH.
LANKFORD | DAVID.
LEAVITT | WILLIAM.
LEE | PAULA.
LESKO | MAX.
LIMAGE | JULIA.
LONNERDAL | NILS.
LOPEZ | ELIZABETH.
LYNCH-SMITH | MIRANDA.
LYONS | SUSAN.
MALONEY | CAROL.
MARCELLA | JESSICA.
MATAKA | ARSENIO.
MATHIAS | KARL.
MAZANEC | BRIAN.
MCCLUSKIE | SEAN.
MCDANIEL | EILEEN.
MCIFF | COLIN.
MIRANDA | TERESA.
MOHIUDDIN | SYED.
MOTSIOPOULOS | CHRISTOS.
MUSE | AVERY.
NAIMON | DAVID.
NICHOLLS | RICHARD.
NOLAN | JANET.
NOONAN | TIMOTHY.
NOVY | STEVEN.
PACE | LOYCE.
PARK | RACHEL.
PARKER HALVERSON | PAMELA.
PECK | JOSHUA.
PEREZ | LUIS.
PERSON | LISA.
PETILLO | JOHN.
PIERCE | JULIA.
POSNACK | STEVEN.
PRYOR | RACHEL.
PURDUE | MICHELE.
RABIN | BRIAN.
RAINER | MELANIE.
RAMIREZ | ANGELA.
RATHGEB | COLLEEN.
RECHTER | PETER.
ROBINSON | WILMA.
RODRIGUEZ | PAUL.
ROSENTHAL | SARAH.
SANDERS | STACY.
SAUNDERS | MICHAEL.
SCHOMBURG | AYSHA.
SCHUHAM | AARON.
SCOTT | MARIE.
SESHASAI | KARUNA.
SHA | LYNN.
SHANBHAG | KRISHNAKANT.
SHERRY | TISAMARIE.
SKEADAS | CHRISTOS.
SMITH | JENNIFER.
SMITH | JESSICA.
STEIDE | KIMBERLY.
SULLIVAN | MEG.
SULLIVAN | ROSE.
SUPPLEE | LAUREN.
TAYLOR | CAROLYN.
TOBIAS | CONSTANCE.
TOMOYASU | NAOMI.
TOVEN | JEFFREY.
TRAUTMAN | TRACEY.
TRESS | DEBORAH.
TRIPATHI | SUHAS.
VALDEZ | ROBERT.
WALKER | EDWIN.
WALLER | KIMBERLY.
WEAVER | GRETCHEN.
WEBB | SANDRA.
WENDEL | JENNIFER.
WESLEY | KENYATA.
WILLIAMS | CARLIS.
WILLIAMS | RASHEED.
WULFF | KATHARINE.
YARBOROUGH | LA MONTE.

Michelle Monroe,
Director, Executive Resources.

[FR Doc. 2023-24207 Filed 11-1-23; 8:45 am]

BILLING CODE 4151-17-P